ENVIRONMENTAL PROTECTION AGENCY

[EPA-HQ-OECA-2014-0101; FRL-9930-21-OEI]

Information Collection Request Submitted to OMB for Review and Approval; Comment Request; NESHAP for Polyvinyl Chloride and Copolymers Production (Renewal)

AGENCY: Environmental Protection Agency (EPA).

ACTION: Notice.

SUMMARY: The Environmental Protection Agency has submitted an information collection request (ICR), “NESHAP for Polyvinyl Chloride and Copolymers Production (40 CFR part 63, subpart HHHHHHH) (Renewal)” (EPA ICR No. 2432.03, OMB Control No. 2060-0666), to the Office of Management and Budget (OMB) for review and approval in accordance with the Paperwork Reduction Act (44 U.S.C. 3501 et seq.). This is a proposed extension of the ICR, which is currently approved through July 31, 2015. Public comments were previously requested via the Federal Register (79 FR 30117) on May 27, 2014, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 26, 2015.

ADDRESSES: Submit your comments, referencing Docket ID Number EPA-HQ-OECA-2014-0101, to: (1) EPA online using www.regulations.gov (our preferred method), or by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is: 202-566-1744. For additional information about EPA's public docket, visit: http://www.epa.gov/dockets.

Abstract: The affected entities are subject to the General Provisions of the NESHAP (40 CFR part 63, subpart A), and any changes, or additions to the General Provisions, which are specified at 40 CFR part 63, subpart HHHHHHH. Owners or operators of the affected facilities must submit an initial notification report, performance tests, and periodic reports and results. Owners or operators are also required to maintain records of the occurrence and duration of any startup, shutdown, or malfunction in the operation of an affected facility, or any period during which the monitoring system is inoperative. Reports, at a minimum, are required semiannually.

Form Numbers: None.

Respondents/affected entities: Polyvinyl chloride and copolymer production facilities that are major sources of HAP.

Respondent's obligation to respond: Mandatory (40 CFR part 63, Subpart HHHHHHH).

Estimated number of respondents: 17 (total).

Frequency of response: Initially, occasionally, and semiannually.

Total estimated burden: 378,000 hours (per year). Burden is defined at 5 CFR 1320.3(b).

Total estimated cost: $43,150,000 (per year), includes $5,150,000 in annualized capital/startup and/or operation & maintenance costs.

Changes in the Estimates: There is an adjustment increase in the estimated burden as currently identified in the OMB Inventory of Approved Burdens. In consulting with the Vinyl Institute during the renewal of this ICR, EPA received comprehensive comments on the burden associated with specific reporting and recordkeeping requirements, including, but not limited to, performance test, monitor installation, resin and wastewater sampling, equipment leak and process vent monitoring. We have updated the burden items to more accurately reflect the costs incurred by the industry. The update results in a substantial increase in the respondent labor hours, labor costs, and capital/O&M costs. There is also an increase in the number of responses as we have updated the number of subject major sources from 15 to 17 based on data provided by the Vinyl Institute.

Courtney Kerwin,
Acting Director, Collection Strategies Division.

[FR Doc. 2015-18243 Filed 7-24-15; 8:45 am]

BILLING CODE 6560-50-P